DEPARTMENT OF ENERGY

Federal Energy Regulatory Commission

Combined Notice of Filings #1

Take notice that the Commission received the following electric rate filings:

Docket Numbers: ER11-4267-011; ER10-2738-005; ER11-113-012; ER11-4269-012; ER11-4270-011; ER11-4694-008; ER12-1680-009; ER14-1282-002; ER15-2631-007; ER16-2169-003; ER16-2364-003; ER16-2412-006; ER16-2703-004; ER17-2084-002; ER17-692-002.

Applicants: Algonquin Energy Services Inc., Algonquin Power Sanger LLC, Algonquin Power Windsor Locks LLC, Algonquin SKIC 20 Solar, LLC, Algonquin SKIC 10 Solar, LLC, Algonquin Tinker Gen Co., Deerfield Wind Energy, LLC, GSG 6, LLC, Liberty Utilities (Granite State Electric) Corp., Luning Energy LLC, Minonk Wind, LLC, Odell Wind Farm, LLC, Sandy Ridge Wind, LLC, The Empire District Electric Company, Great Bay Solar I, LLC.

Description: Supplement to April 9, 2018 Notice of Change in Status of Algonquin Energy Services Inc., et al.

Filed Date: 5/15/18.

Accession Number: 20180515-5353.

Comments Due: 5 p.m. ET 6/5/18.

Docket Numbers: ER13-618-012; ER12-2570-013.

Applicants: Panther Creek Power Operating, LLC, Westwood Generation LLC, Westwood Generation, LLC.

Description: Supplement to June 30, 2017 Triennial Report for the Northeast Region of Westwood Generation LLC, et al.

Filed Date: 5/16/18.

Accession Number: 20180516-5097.

Comments Due: 5 p.m. ET 6/6/18.

Docket Numbers: ER18-855-000.

Applicants: Panoche Valley Solar, LLC.

Description: Report Filing: Refund Report of Panoche Valley Solar, LLC to be effective N/A.

Filed Date: 5/15/18.

Accession Number: 20180515-5284.

Comments Due: 5 p.m. ET 6/5/18.

Docket Numbers: ER18-1599-001.

Applicants: Ohio Valley Electric Corporation.

Description: eTariff filing per 1450: Substitute Tariff Sheet to be effective 3/21/2018.

Filed Date: 5/15/18.

Accession Number: 20180515-5281.

Comments Due: 5 p.m. ET 6/5/18.

Docket Numbers: ER18-1628-000.

Applicants: Midcontinent Independent System Operator, Inc.

Description: Compliance filing: 2018-05-15_Compliance for Order 842 Primary Frequency Response to be effective 5/15/2018.

Filed Date: 5/15/18.

Accession Number: 20180515-5295.

Comments Due: 5 p.m. ET 6/5/18.

Docket Numbers: ER18-1629-000.

Applicants: PJM Interconnection, L.L.C.

Description: Compliance filing: Compliance Filing Pursuant to Final Rule, Order No. 842, Docket No. RM16-6-000 to be effective 10/1/2018.

Filed Date: 5/15/18.

Accession Number: 20180515-5298.

Comments Due: 5 p.m. ET 6/5/18.

Docket Numbers: ER18-1630-000.

Applicants: Black Hills/Colorado Electric Utility Company, LP.

Description: Compliance filing: Order No. 842 Compliance Filing to be effective 5/15/2018.

Filed Date: 5/15/18.

Accession Number: 20180515-5299.

Comments Due: 5 p.m. ET 6/5/18.

Docket Numbers: ER18-1631-000.

Applicants: Black Hills Power, Inc.

Description: Compliance filing: Order No. 842 Compliance Filing to be effective 5/15/2018.

Filed Date: 5/15/18.

Accession Number: 20180515-5300.

Comments Due: 5 p.m. ET 6/5/18.

Docket Numbers: ER18-1632-000.

Applicants: Southwest Power Pool, Inc.

Description: § 205(d) Rate Filing: Major Maintenance Cost Component to Mitigated Start-Up and No-Load Offers to be effective 1/15/2019.

Filed Date: 5/15/18.

Accession Number: 20180515-5301.

Comments Due: 5 p.m. ET 6/5/18.

Docket Numbers: ER18-1633-000.

Applicants: Cheyenne Light, Fuel and Power Company.

Description: Compliance filing: Order No. 842 Compliance Filing to be effective 5/15/2018.

Filed Date: 5/15/18.

Accession Number: 20180515-5302.

Comments Due: 5 p.m. ET 6/5/18.

Docket Numbers: ER18-1634-000.

Applicants: El Paso Electric Company.

Description: Compliance filing: Order No. 842 Compliance Filing—Revisions to OATT Attachments M and N to be effective 5/15/2018.

Filed Date: 5/15/18.

Accession Number: 20180515-5310.

Comments Due: 5 p.m. ET 6/5/18.

Docket Numbers: ER18-1635-000.

Applicants: Western Interconnect LLC.

Description: Compliance filing: Order No. 842 Compliance Filing to be effective 7/16/2018.

Filed Date: 5/15/18.

Accession Number: 20180515-5311.

Comments Due: 5 p.m. ET 6/5/18.

Docket Numbers: ER18-1636-000.

Applicants: Midcontinent Independent System Operator, Inc.

Description: § 205(d) Rate Filing: 2018-05-16 Tariff revisions to Align PRA and Attachment Y Process to be effective 7/16/2018.

Filed Date: 5/16/18.

Accession Number: 20180516-5026.

Comments Due: 5 p.m. ET 6/6/18.

Docket Numbers: ER18-1637-000.

Applicants: Louisville Gas and Electric Company.

Description: § 205(d) Rate Filing: TVA NITSA Service Agreement No. 11 to be effective 4/16/2018.

Filed Date: 5/16/18.

Accession Number: 20180516-5039.

Comments Due: 5 p.m. ET 6/6/18.

Docket Numbers: ER18-1638-000.

Applicants: Duke Energy Carolinas, LLC, Duke Energy Progress, LLC, Duke Energy Florida, LLC.

Description: Joint Petition of the Duke Southeast Companies for Waiver of Tariff Provisions.

Filed Date: 5/15/18.

Accession Number: 20180515-5343.

Comments Due: 5 p.m. ET 6/5/18.

Docket Numbers: ER18-1639-000.

Applicants: Constellation Mystic Power, LLC.

Description: Initial rate filing: Constellation Mystic Cost of Service to be effective 6/1/2022.

Filed Date: 5/16/18.

Accession Number: 20180516-5048.

Comments Due: 5 p.m. ET 6/6/18.

Docket Numbers: ER18-1640-000.

Applicants: Southwest Power Pool, Inc.

Description: § 205(d) Rate Filing: 1518R14 Arkansas Electric Cooperative Corp NITSA NOA to be effective 1/1/2018.

Filed Date: 5/16/18.

Accession Number: 20180516-5050.

Comments Due: 5 p.m. ET 6/6/18.

Docket Numbers: ER18-1641-000.

Applicants: Realgy, LLC.

Description: Baseline eTariff Filing: Realgy Market Based Rate Tariff to be effective 5/17/2018.

Filed Date: 5/16/18.

Accession Number: 20180516-5052.

Comments Due: 5 p.m. ET 6/6/18.

Docket Numbers: ER18-1642-000.

Applicants: Southwest Power Pool, Inc.

Description: § 205(d) Rate Filing: 2888R3 Arkansas Electric Cooperative Corp NITSA NOA to be effective 1/1/2018.

Filed Date: 5/16/18.

Accession Number: 20180516-5054.

Comments Due: 5 p.m. ET 6/6/18.

Docket Numbers: ER18-1643-000.

Applicants: Southwest Power Pool, Inc.

Description: § 205(d) Rate Filing: Revisions to Attachment AE Section 11.1.4 to Remove the Term Control Area to be effective 7/16/2018.

Filed Date: 5/16/18.

Accession Number: 20180516-5057.

Comments Due: 5 p.m. ET 6/6/18.

Docket Numbers: ER18-1644-000.

Applicants: PJM Interconnection, L.L.C.

Description: § 205(d) Rate Filing: Revisions to OA, Schedule 6, section 1.5 re: Order 1000 Lessons Learned Part I to be effective 7/16/2018.

Filed Date: 5/16/18.

Accession Number: 20180516-5070.

Comments Due: 5 p.m. ET 6/6/18.

Docket Numbers: ER18-1645-000.

Applicants: PJM Interconnection, L.L.C.

Description: § 205(d) Rate Filing: Original WMPA SA No. 5075; Queue No. AD1-071 to be effective 4/17/2018.

Filed Date: 5/16/18.

Accession Number: 20180516-5072.

Comments Due: 5 p.m. ET 6/6/18.

Docket Numbers: ER18-1646-000.

Applicants: Electric Energy, Inc.

Description: eTariff filing per 1450: Show Cause Response of Electric Energy LLC to be effective 3/21/2018.

Filed Date: 5/16/18.

Accession Number: 20180516-5093.

Comments Due: 5 p.m. ET 6/6/18.

Docket Numbers: ER18-1647-000.

Applicants: PJM Interconnection, L.L.C.

Description: § 205(d) Rate Filing: Revisions to OA, Schedule 6, section 1.5 re: Order 1000 Lessons Learned Part II to be effective 7/16/2018.

Filed Date: 5/16/18.

Accession Number: 20180516-5106.

Comments Due: 5 p.m. ET 6/6/18.

Take notice that the Commission received the following qualifying facility filings:

Docket Numbers: QF18-1286-000.

Applicants: Broad Street Fuel Cell, LLC.

Description: Form 556 of Broad Street Fuel Cell, LLC.

Filed Date: 5/11/18.

Accession Number: 20180511-5303.

Comments Due: None-Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 16, 2018.
Nathaniel J. Davis, Sr.,
Deputy Secretary.

[FR Doc. 2018-10862 Filed 5-21-18; 8:45 am]

BILLING CODE 6717-01-P